DEPARTMENT OF THE INTERIOR

Fish and Wildlife Service

[FWS-R6-ES-2008-N0112; 60132-1261-60RC-P4]

Keystone Oil Pipeline Project, Right-of-Way Permit Application To Cross Six Wetland Management Districts in North Dakota and South Dakota

AGENCY: Fish and Wildlife Service, Interior.

ACTION: Notice of availability; right-of-way permit application.

SUMMARY: The U.S. Fish and Wildlife Service (Service) is soliciting public comment on a right-of-way (ROW) permit application submitted by TransCanada Keystone Pipeline, LP (Keystone). If issued, the ROW permit would authorize the construction, operation, maintenance, and decommissioning of the pipeline through easements held by the Service in North Dakota and South Dakota. The Service is a cooperating agency with the Department of State on an Environmental Impact Statement (EIS) on the Keystone Oil Pipeline Project and has adopted the Final EIS. After reviewing any comments received on the ROW application, the Service will issue its own Record of Decision (ROD) on the EIS prior to granting the ROW permit.

DATES: Preparation of the ROD will begin no sooner than July 7, 2008. We will consider public comments received or postmarked by that date.

ADDRESSES: Comment submission: Submit comments on the ROW application to Rick Coleman, Assistant Regional Director, National Wildlife Refuge System, Region 6, U.S. Fish and Wildlife Service, P.O. Box 25486, Denver Federal Center, Denver, Colorado 80225, or electronically to Rick_Coleman@fws.gov (e-mail).

Document availability: Copies of the ROW permit application, digital maps, and legal descriptions of Service wetland easements that the ROW would cross, are available for viewing and download at the Service's Region 6 Web site: http://www.fws.gov/mountain-prairie/keystonepipeline or at the field office locations listed in supplementary information. Copies of the Final EIS, Record of Decision, National Interest Determination, Presidential Permit, and other project information are available for viewing and download at the Keystone project Web site: http://www.keystonepipeline.state.gov.

SUPPLEMENTARY INFORMATION:

A. Background

Keystone proposes to construct and operate a pipeline and related facilities to transport crude oil from Alberta, Canada, to the midwestern United States. The proposed route of the pipeline would cross lands where the Service holds an easement interest.

Pursuant to the National Environmental Policy Act (NEPA), the Department of State, with the Service as a cooperating agency, prepared a Final EIS assessing the impacts of constructing and operating the proposed Keystone Pipeline. The Environmental Protection Agency published a Notice of Availability of the EIS in the Federal Register on January 11, 2008 (73 FR 2027) and a notice of the agency's comments on the EIS on March 21, 2008 (73 FR 15153). Subsequently, Keystone applied for a ROW easement per regulations at 50 CFR 29.21 for the Keystone Pipeline to cross through individual wetlands where the Service holds an easement for waterfowl management rights. The current route of the pipeline will cross 62 easement wetlands on 33 tracts.

The purpose of the ROW permit, if approved, and any preliminary permit is to describe the location of the pipeline through individual easement wetlands and the measures that will be taken by Keystone to ensure that construction, operation, maintenance, and decommissioning of the pipeline will only temporarily drain or fill easement wetlands. It also will describe measures that Keystone will take to restore easement wetlands if the Service determines that pipeline construction, operation, maintenance, and decommissioning drains or partially drains them. If wetland hydrology cannot be adequately restored and an easement wetland is drained by this project, permit conditions will require Keystone to acquire replacement wetland habitat that will be protected by a Service easement.

Based on the analysis described in the State Department's Final EIS, Record of Decision (ROD), and National Interest Determination, the Service has adopted the State Department's EIS and will consider issuance of a ROW permit. As required by 50 CFR 29.21-9(f), the Service is seeking public comment on the ROW application. After reviewing and considering any comments received, the Service will issue a ROD, Environmental Action Memorandum, and Environmental Action Statement before issuing a ROW permit allowing the pipeline to cross the described easement wetlands. The Service ROD will describe the rationale for the decision and the alternatives considered in reaching this decision. It will also identify those measures (permit conditions) that have been, and will be, taken to minimize environmental harm from the decision to issue a ROW permit.

B. Document Availability

Copies of the ROW application and other material from the Service's Web site can be obtained during office hours at the following Service field offices:

• Tewaukon Wetland Management District, 9756 143½Ave, SE., Cayuga, North Dakota 58013, telephone 701-724-3598

• Devils Lake Wetland Management District, 221 Second Street Northwest, Devils Lake, North Dakota 58301, telephone 701-662-8611

• Valley City Wetland Management District, 11515 River Road, Valley City, North Dakota 58072, telephone 701-845-3466

• Waubay Wetland Management District, 44401 134 A Street, Waubay, South Dakota 57273, telephone 605-947-4521

• Huron Wetland Management District, 200 4th Street, SE., Room 309, Federal Building, Huron, South Dakota 57350, telephone 605-352-5894

• Lake Andes Wetland Management District, 38672 291st Street, Lake Andes, South Dakota 57356, telephone 605-487-7603

• Madison Wetland Management District, P.O. Box 48, Madison, South Dakota 57042, telephone 605-256-2974

The information also will be available at various public offices and locations throughout North Dakota and South Dakota. To obtain these locations, call the nearest Service office listed above.

Dated: May 28, 2008.
James J. Slack,
Deputy Regional Director.

[FR Doc. E8-12473 Filed 6-5-08; 8:45 am]

BILLING CODE 4310-55-P